ENVIRONMENTAL PROTECTION AGENCY

[EPA-HQ-OPPT-2015-0744; FRL-10371-01-OMS]

Information Collection Request Submitted to OMB for Review and Approval; Notification of Substantial Risk of Injury to Health and the Environment Under TSCA Section 8(e) (Renewal)

AGENCY: Environmental Protection Agency (EPA).

ACTION: Notice.

SUMMARY: The Environmental Protection Agency (EPA) has submitted the following information collection request (ICR) to the Office of Management and Budget (OMB) for review and approval in accordance with the Paperwork Reduction Act: Notification of Substantial Risk of Injury to Health and the Environment under TSCA Section 8(e) (EPA ICR Number 0794.17 and OMB Control Number 2070-0046). This is a proposed extension of the ICR which is currently approved through October 31, 2022. Public comments were previously requested via the Federal Register on February 8, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 28, 2022.

ADDRESSES: Submit your comments to EPA, referencing Docket ID No. EPA-HQ-OPPT-2015-0744, online using www.regulations.gov (our preferred method). or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460; telephone number: (202) 566-1204; email address: sleasman.katherine@epa.gov.

SUPPLEMENTARY INFORMATION: Supporting documents, which explain in detail the information that the EPA will be collecting, are available in the docket for this ICR. The docket can be viewed online at www.regulations.gov or in person at the EPA Docket Center, WJC West, Room 3334, 1301 Constitution Ave. NW, Washington, DC. The telephone number for the Docket Center is 202-566-1744. For additional information about EPA's dockets, visit http://www.epa.gov/dockets.

Abstract: Under TSCA section 8(e), any person who manufactures (defined by statute to include imports), processes, or distributes in commerce a chemical substance or mixture and who obtains information which reasonably supports the conclusion that such substance or mixture presents a substantial risk of injury to health or the environment is required to immediately inform EPA of such information unless they have actual knowledge that EPA has been adequately informed of such information.

EPA receives and screens TSCA section 8(e) submissions covering a large number of chemical substances and mixtures on a wide range of chemical toxicity/exposure information. Although EPA's receipt of TSCA section 8(e) information does not necessarily trigger immediate regulatory action under TSCA or other authorities administered by EPA, all TSCA section 8(e) submissions receive screening level evaluations by EPA's Office of Pollution Prevention and Toxics (OPPT) to identify priorities for further Agency action and appropriate referrals to other programs.

In addition, EPA is offering an electronic reporting option for use both by those who are required to submit a notification of substantial risk under TSCA section 8(e) and by those who wish voluntarily to submit “For Your Information” (FYI) notices by registering and submitting information electronically using the Agency's Central Data Exchange (CDX).

Form Numbers: None.

Respondents/affected entities: Entities potentially affected are those that manufacture, process, import, or distribute in commerce chemical substances and mixtures. The following North American Industrial Classification System (NAICS) codes have been provided to assist in determining whether this action might apply to certain entities: Chemical manufacturing (NAICS code 325) and petroleum and coal product manufacturing (NAICS code 324).

Respondent's obligation to respond: Mandatory, 15 U.S.C. 2607(e).

Estimated number of respondents: 51 (total).

Frequency of response: On occasion.

Total estimated burden: 17,565 hours (per year). Burden is defined at 5 CFR 1320.3(b).

Total estimated cost: $1,635,246 (per year), includes $0 annualized capital or operation & maintenance costs.

Changes in the estimates: There is a decrease of 3,777 hours from the ICR currently approved by OMB (from 21,412 to 17,635 hours). This reflects an overall decrease in the number of 8(e) and FYI submissions, which decreased from 408 to 343 for 8(e) submissions and from 13 to 6 for FYI submissions respectively.

Courtney Kerwin,
Director, Regulatory Support Division.

[FR Doc. 2022-23373 Filed 10-26-22; 8:45 am]

BILLING CODE 6560-50-P